DEPARTMENT OF HOUSING AND URBAN DEVELOPMENT

[Docket No. FR-7006-N-10]

60-Day Notice of Proposed Information Collection: HOPE VI Implementation and HOPE VI Main Street Programs: Funding and Program Data Collection

AGENCY: Office of the Assistant Secretary for Public and Indian Housing, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: October 2, 2018.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW, Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: HOPE VI Implementation and HOPE VI Main Street Programs.

OMB Approval Number: 2577-0208.

Type of Request: Reinstatement, with change, of a previously approved collection.

Form Numbers: HUD-52825-A, HUD-52861, and HUD-53001-A.

Description of the need for the information and proposed use: Section 24 of the U.S. Housing Act of 1937, as added by section 535 of the Quality Housing and Work Responsibility Act of 1998 (Pub. L. 105-276, 112 Stat. 2461, approved October 21, 1998) and revised by the HOPE VI Program Reauthorization and Small Community Main Street Rejuvenation and Housing Act of 2003 (Pub. L. 108-186, 117 Stat. 2685, approved December 16, 2003), established the HOPE VI program for the purpose of making assistance available on a competitive basis to public housing agencies (PHAs) in improving the living environment for public housing residents of severely distressed public housing projects through the demolition, rehabilitation, reconfiguration, or replacement of severely distressed public housing projects (or portions thereof); and, beginning in Fiscal Year 2004, in rejuvenating the traditional or historic downtown areas of smaller units of local government. Funds were appropriated for competitive HOPE VI Implementation Notices of Funding Availability (NOFAs) through Fiscal Year 2011. Currently, there are approximately 55 HOPE VI Implementation grants that remain active and must be monitored by HUD. HUD publishes competitive bi-annual NOFAs for the HOPE VI Main Street program and monitors grants that have been awarded through those NOFAs.

These information collections are required in connection with the monitoring of the remaining active HOPE VI Implementation grants and the bi-annual publication on http://www.grants.gov of HOPE VI Main Street NOFAs, contingent upon available funding and authorization, which announce the availability of funds provided in annual appropriations for Section 24 of the Housing Act of 1937, as amended.

Eligible units of local government interested in obtaining HOPE VI Main Street grants are required to submit applications to HUD, as explained in each NOFA. The information collection conducted in the applications enables HUD to conduct a comprehensive, merit-based selection process in order to identify and select the applications to receive funding. With the use of HUD-prescribed forms, the information collection provides HUD with sufficient information to approve or disapprove applications.

Applicants that are awarded HOPE VI Implementation grants are required to report on a quarterly basis on the sources and uses of all amounts expended for Implementation grant revitalization activities. HOPE VI Implementation grantees use a fully-automated, internet-based process for the submission of quarterly reporting information. HUD reviews and evaluates the collected information and uses it as a primary tool with which to monitor the status of HOPE VI projects and the HOPE VI programs.

Respondents (i.e. affected public): Public Housing Agencies and units of local governments.

Collection | Respondents | Frequency per annum | Responses per annum | Burden per response | Burden per annum | Hourly cost per response | Annual cost
HOPE VI Main Street Application
Main Street NOFA Narrative Exhibits | 5 | 0.5 | 2.5 | 80 | 200 | $57 | $11,400.00
Main Street NOFA 52861 Application Data Sheet | 5 | 0.5 | 2.5 | 15 | 38 | 57 | 2,137.50
Main Street NOFA Project Area Map | 5 | 0.5 | 2.5 | 1 | 3 | 57 | 142.50
Main Street NOFA Program Schedule | 5 | 0.5 | 2.5 | 4 | 10 | 57 | 570.00
Main Street NOFA Photographs of site | 5 | 0.5 | 2.5 | 5 | 13 | 57 | 712.50
Main Street NOFA Five-year Pro-forma | 5 | 0.5 | 2.5 | 5 | 13 | 57 | 712.50
Main Street NOFA Site Plan and Unit Layout | 5 | 0.5 | 2.5 | 10 | 25 | 57 | 1,425.00
Subtotal | 5 |  | 17.5 |  | 300 |  | 17,100.00
Non-NOFA Collections:
On-line Quarterly Reporting | 55 | 4 | 220 | 16 | 3,520 | 57 | 200,640.00
52825-A HOPE VI Budget updates | 40 | 1 | 75 | 2 | 150 | 57 | 8,550.00
53001-A Actual HOPE VI Cost Certificate | 20 | 1 | 20 | 0.5 | 10 | 57 | 570.00
Subtotal | 115 |  | 315 |  | 3,680 |  | 209,760.00
Total Burden |  |  | 332.5 |  | 3,980 |  | 226,860.00

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Dated: July 26, 2018.
Merrie Nichols-Dixon,
Director, Office of Policy, Program and Legislative Initiatives.

[FR Doc. 2018-16656 Filed 8-2-18; 8:45 am]

BILLING CODE 4210-67-P